DEPARTMENT OF JUSTICE

Immigration and Naturalization Service

[INS No. 2169C-01]

Notice of Corrected Address for Aliens Seeking Relief Pursuant to the Settlement Agreement in Walters v. Reno

AGENCY: Immigration and Naturalization Service, Justice.

ACTION: Notice of change of address.

SUMMARY: On September 20, 2001, the Immigration and Naturalization Service (Service) published a notice in the Federal Register at 66 FR 48480-82, regarding the class action settlement agreement in the case of Walters et al. v. Reno et al., Civ. No. 94-1204C. In the notice the Service incorrectly listed the address for class members to mail their requests for a refund for a previously paid civil money penalty for a section 274c violation. The correct mailing address for such requests is: INS Debt Management Center, 188 Harvest Lane, Williston, VT 05495-7554.

This change is necessary to ensure that class members have the proper mailing address for requesting refunds from the Service.

DATES: This notice is effective December 3, 2001.

FOR FURTHER INFORMATION CONTACT: Warren McBroom, Immigration and Naturalization Service, 425 I Street, NW, Suite 6100, Washington, DC 20536, telephone (202) 514-2895.

Dated: November 19, 2001.
James W. Ziglar,
Commissioner, Immigration and Naturalization Service.

[FR Doc. 01-29884 Filed 11-30-01; 8:45 am]

BILLING CODE 4410-10-M